DEPARTMENT OF HOMELAND SECURITY

Coast Guard

33 CFR Part 117

[Docket No. USCG-2019-0714]

Drawbridge Operation Regulation; New River, Fort Lauderdale, FL

AGENCY: Coast Guard, DHS.

ACTION: Notice of temporary deviation from drawbridge regulation; modification.

SUMMARY: The Coast Guard has modified a temporary deviation from the operating schedule that governs the Florida East Coast Railway (FECR) Railroad Bridge across the New River, mile 2.5, at Fort Lauderdale, Florida. This modified deviation extends the period the bridge may operate under the test deviation to the drawbridge operation schedule. This modification will allow for ongoing negotiations between the railroad and maritime stakeholders as the parties discuss a final rule that reasonably meets the needs of both modes of transportation.

DATES: This deviation is effective without actual notice from October 23, 2019 through 11:59 p.m. on December 31, 2019. For the purposes of enforcement, actual notice will be used from 12:01 a.m. on October 19, 2019, through October 23, 2019.

ADDRESSES: The docket for this deviation, USCG-2019-0714, is available at http://www.regulations.gov. Type the docket number in the “SEARCH” box and click “SEARCH.” Click on Open Docket Folder on the line associated with this deviation.

FOR FURTHER INFORMATION CONTACT: If you have questions on this modified test deviation, call or email LT Samuel Rodriguez-Gonzalez, U.S. Coast Guard, Sector Miami Waterways Management Division; telephone 305-535-4307, email Samuel.Rodriguez-Gonzalez@uscg.mil.

SUPPLEMENTARY INFORMATION: The Florida East Coast Railway (FECR) Railroad Bridge across the New River, mile 2.5, at Fort Lauderdale, Florida is a single-leaf bascule railroad bridge with a 4 foot vertical clearance at mean high water in the closed position. The normal operating schedule for the bridge is found in 33 CFR 117.313(c). Navigation on the waterway is commercial and recreational.

On August 21, 2019, the Coast Guard published a temporary test deviation entitled “Drawbridge Operation Regulation; New River, Fort Lauderdale, FL” in the Federal Register (84 FR 43501). That temporary deviation, effective from 12:01 a.m. on August 20, 2019, to 11:59 p.m. on October 18, 2019, allowed for testing a change to the drawbridge operation schedule to determine whether a permanent change to the schedule is needed. The bridge owner, FECR, has requested the currently published deviation be extended through 11:59 p.m. on December 31, 2019.

This extension of time is necessary to accommodate ongoing negotiations between interested parties to discuss a Final Rule that reasonably meets the needs of both the railroad and maritime industries.

The draw shall operate as follows from 12:01 a.m. on October 19, 2019, to 11:59 p.m. on December 31, 2019:

(1) The bridge shall be constantly tended.

(2) The bridge tender will utilize a VHF-FM radio to communicate on channels 9 and 16 and may be contacted by telephone at 305-889-5572.

(3) Signs will be posted displaying VHF radio contact information and telephone numbers for the bridge tender and dispatch. A countdown clock giving notice of time remaining before bridge closure shall remain at the bridge site and must be visible for maritime traffic.

(4) A bridge log will be maintained including, at a minimum, bridge opening and closing times.

(5) When the draw is in the fully open position, green lights will be displayed to indicate that vessels may pass.

(6) When a train approaches, the lights go to flashing red then the draw lowers and locks.

(7) After the train has cleared the bridge, the draw opens and the lights return to green.

(8) The bridge shall not be closed more than 60 minutes combined in each consecutive 120-minute block of time beginning at 12:01 a.m. each day. At no time will the bridge be closed to navigation for more than 60 consecutive minutes of time.

(9) The bridge shall remain open to maritime traffic when trains are not crossing.

Vessels able to pass through the bridge in the closed position may do so at anytime. The bridge will be able to open for emergencies and there is no immediate alternate route for vessels to pass. The Coast Guard will also inform the users of the waterways through Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: October 17, 2019.
Barry Dragon,
Director, Bridge Branch, Seventh Coast Guard District.

[FR Doc. 2019-23047 Filed 10-22-19; 8:45 am]

BILLING CODE 9110-04-P